DEPARTMENT OF ENERGY

Federal Energy Regulatory Commission

[Docket Nos. IS19-277-002, IS19-278-002, OR18-22-000]

Notice of Settlement Filing: Buckeye Pipe Line Company, LP; Laurel Pipe Line Company, LP

Take notice that on July 31, 2019 and August 2, 2019, Buckeye Pipe Line Company, L.P. (Buckeye) and Laurel Pipe Line Company, L.P (Laurel) with the support of Giant Eagle, Inc., Guttman Energy, Inc., Lucknow-Highspire Terminals, LLC, Monroe Energy, LLC, Philadelphia Energy Solutions Refining and Marketing, LLC, and Sheetz, Inc. (collectively, with Buckeye/Laurel, Parties) filed a joint Offer of Settlement. The Settlement seeks to resolve all issues in the above referenced proceedings regarding the services by Buckeye and Laurel.

In accordance with Rule 602(f) of the Commission's Rules of Practice and Procedure, 18 CFR 385.602(f), any person desiring to comment on this Offer of Settlement should file its comments with the Federal Energy Regulatory Commission, 888 First Street NE, Washington, DC 20426, on or before September 5, 2019. Reply comments will be due on or before September 12, 2019. This filing is available for review at the Commission in the Public Reference Room or may be viewed on the Commission's website at http://www.ferc.gov using the “eLibrary” link. Enter the docket number excluding the last three digits in the docket number field to access the document. For Assistance, call (202) 502-8222 or for TTY, (202) 502-8659. Comments, protests and interventions may be filed electronically via the internet in lieu of paper. The Commission strongly encourages electronic filings. See, 18 CFR 385.2001(a)(1)(iii) and the instructions on the Commission's website under the “e-Filing” link.

Dated: August 22, 2019.
Kimberly D. Bose,
Secretary.

[FR Doc. 2019-18712 Filed 8-28-19; 8:45 am]

BILLING CODE 6717-01-P